DEPARTMENT OF ENERGY

Federal Energy Regulatory Commission

[Project No. 1888-038]

York Haven Power Company, LLC; Notice of Availability of Environmental Assessment

In accordance with the National Environmental Policy Act of 1969 and the Federal Energy Regulatory Commission's (Commission) regulations, 18 CFR part 380, the Office of Energy Projects has reviewed the application for a temporary variance from flow requirements for the York Haven Hydroelectric Project, located on the Susquehanna River in Dauphin, Lancaster, and York counties, Pennsylvania, and has prepared an Environmental Assessment (EA) for the project. The project does not occupy Federal lands.

The EA contains the staff's analysis of the potential environmental effects of the temporary variance and concludes that licensing the variance would not constitute a major federal action that would significantly affect the quality of the human environment.

The EA may be viewed on the Commission's website at http://www.ferc.gov using the “elibrary” link. Enter the docket number (P-1888) in the docket number field to access the document. At this time, the Commission has suspended access to the Commission's Public Reference Room, due to the proclamation declaring a National Emergency concerning the Novel Coronavirus Disease (COVID-19), issued by the President on March 13, 2020. For assistance, contact FERC Online Support at FERCOnlineSupport@ferc.gov or toll-free at 1-866-208-3372, or for TTY, (202) 502-8659.

All comments must be filed within 30 days from the date of this notice. The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Secretary, Federal Energy Regulatory Commission, 888 First Street NE, Washington, DC 20426. The first page of any filing should include docket number P-1888-038.

For further information, contact Alicia Burtner at (202) 502-8038 or Alicia.Burtner@ferc.gov.

Dated: December 20, 2021.
Kimberly D. Bose,
Secretary.

[FR Doc. 2021-28025 Filed 12-23-21; 8:45 am]

BILLING CODE 6717-01-P